EXPORT-IMPORT BANK OF THE U.S.

[Public Notice 2010-0012]

Agency Information Collection Activities: Final Collection; Comment Request

AGENCY: Export-Import Bank of the U.S.

ACTION: Submission for OMB Review and Comments Request.

Form Title: Application for Long Term Loan or Guarantee (EIB 95-10).

SUMMARY: The Export-Import Bank of the United States (Ex-Im Bank), as a part of its continuing effort to reduce paperwork and respondent burden, invites the general public and other Federal Agencies to comment on the proposed information collection, as required by the Paperwork Reduction Act of 1995.

We have made the following changes to this application:

a. Added fields for application, exporter, and supplier to indicate if they are Minority Owned or Woman Owned businesses;

b. Added fields for the application to indicate if the export items are considered to be environmentally beneficial and/or if the project will be used to provide renewable energy;

c. Added fields for the exporter and supplier to indicate how many FTEs were supported or created for this deal; and

d. Changed the amount of financeable local costs from 15% to 30%.

Our customers will be able to submit this form on paper or electronically. The information collected will provide information needed to determine compliance and creditworthiness for transaction requests submitted to the Export Import Bank under its long term guarantee and direct loan programs.

DATES: Comments should be received on or before (30 days after publication) to be assured of consideration.

ADDRESSES: Comments may be submitted electronically on http://www.regulations.gov or by mail to Office of Management and Budget, Office of Information and Regulatory Affairs, 725 17th Street, NW., Washington, DC 20038 attn: OMB-3048-0013.

SUPPLEMENTARY INFORMATION:

Titles and Form Number: EIB 95-10 Application for Long Term Loan or Guarantee.

OMB Number: 3048-0013.

Type of Review: Regular.

Need and Use: The information collected will provide information needed to determine compliance and creditworthiness for transaction requests submitted to the Export Import Bank under its long term guarantee and direct loan programs.

Affected Public: This form affects entities involved in the export of U.S. goods and services.

Annual Number of Respondents: 84.

Estimated Time per Respondent: 1.5 hours.

Government Annual Burden Hours: 2,016.

Frequency of Reporting or Use: On Occasion.

Total Cost to the Government: $145,152.

Sharon A. Whitt,
Agency Clearance Officer.

[FR Doc. 2010-11669 Filed 5-14-10; 8:45 am]

BILLING CODE 6690-01-P